DEPARTMENT OF ENERGY

Federal Energy Regulatory Commission

[Project No. 2106-047]

Pacific Gas and Electric Company, California; ERRATA Notice

September 26, 2006.

On September 25, 2006, the Commission issued a “Notice of Intent to File License Application, Filing of Pre-Application Document, Commencement of Licensing Proceeding, Scoping Meetings, Solicitation of Scoping Comments on the Pad and Scoping Document, and Identification of Issues and Associated Study Requests” for the above-referenced proceeding. In paragraph “n.” last sentence should read:

“Any individual or entity interested in commenting on the PAD or SD1, submitting study requests, or any agency requesting cooperating status must do so by November 23, 2006.”

Magalie R. Salas,
Secretary.

[FR Doc. E6-16147 Filed 9-29-06; 8:45 am]

BILLING CODE 6717-01-P